DEPARTMENT OF COMMERCE

International Trade Administration

Notice of Allocation of Tariff Rate Quotas (TRQ) on the Import of Certain Cotton Shirting Fabrics for Calendar Year 2007

AGENCY: Department of Commerce, International Trade Administration.

ACTION: Notice of allocation of 2007 cotton shirting fabrics tariff rate quota.

SUMMARY: The Department of Commerce (Department) has determined the allocation for Calendar Year 2007 of imports of certain cotton shirting fabrics under tariff rate quotas established by Section 406(b)(1) of the Tax Relief and Health Care Act of 2006 (Public Law No. 109-432). The reduction in duty is applicable to fabric entered or withdrawn from warehouse for consumption under a license during calendar year 2007. Claims for reduction in duty can be made retroactively to U.S. Customs and Border Protection for qualifying fabrics under the license as long as the fabrics were entered or withdrawn from warehouse during calendar year 2007. The companies that are being provided an allocation are listed below.

FOR FURTHER INFORMATION CONTACT: Sergio Botero, Office of Textiles and Apparel, U.S. Department of Commerce, (202) 482-4058.

SUPPLEMENTARY INFORMATION:

Background

On December 20, 2006, President Bush signed into law the Tax Relief and Health Care Act of 2006 (“the Act”). Section 406(b)(1) of the Act requires the Secretary of Commerce to fairly allocate tariff rate quotas (“TRQ”) on the import of certain cotton woven fabrics through December 31, 2009. Section 406 (b)(1) authorizes the Secretary of Commerce to issue licenses to eligible manufacturers under headings 9902.52.08 through 9902.52.19 of the Harmonized Tariff Schedule of the United States, specifying the restrictions under each such license on the quantity of cotton woven fabrics that may be entered each year on behalf of the manufacturer. The Act created an annual tariff rate quota providing for temporary reductions through December 31, 2009 in the import duties of cotton woven fabrics suitable for making cotton shirts (new Harmonized Tariff Schedule of the United States (HTS) headings 9902.52.08, 9902.52.09, 9902.52.10, 9902.52.11, 9902.52.12, 9902.52.13, 9902.52.14, 9902.52.15, 9902.52.16, 9902.52.17, 9902.52.18, and 9902.52.19). The reduction in duty is limited to 85 percent of the total square meter equivalents of all imported woven fabrics of cotton containing 85 percent or more by weight of cotton used by manufacturers in cutting and sewing men's and boy's cotton shirts in the United States and purchased by such manufacturer during calendar year 2000.

The Act requires that the tariff rate quotas be allocated to persons (including firms, corporations, or other legal entities) who, during calendar year 2000, were manufacturers cutting and sewing men's and boy's cotton shirts in the United States from imported woven fabrics of cotton containing 85 percent or more by weight of cotton of the kind described in HTS 9902.52.08 through 9902.5219 purchased by such manufacturer during calendar year 2000. On July 24, 2007, the Department published regulations establishing procedures for allocating the TRQ. 72 FR 40235, 15 CFR 336. On August 2, 2007 the Department published a notice in the Federal Register (72 FR 42400) soliciting applications for an allocation of the 2007 tariff rate quotas with a closing date of September 4, 2007.

Companies Receiving Allocation:

Retail Brand Alliance Inc. - Sunnyside, NY
The Hancock Company - Ashland, PA
Individualized Shirt Company - Perth Amboy, NJ
Kenneth Gordon/IAG Inc. - New Orleans, LA
The Pickett Company - Lafayette, TN

Dated: September 24, 2007.
Janet E. Heinzen,
Acting Deputy Assistant Secretary for Textiles, Apparel and Consumer Goods Industries, Department of Commerce.

[FR Doc. E7-19157 Filed 9-27-07; 8:45 am]

BILLING CODE 3510-DS